ENVIRONMENTAL PROTECTION AGENCY

[FRL-6928-1]

Notice of Availability: Draft Guidance on Implementing the Water Quality-Based Provisions in the Combined Sewer Overflow Control Policy

AGENCY: Environmental Protection Agency (EPA).

ACTION: Notice; availability of draft guidance.

SUMMARY: This document announces that the U.S. Environmental Protection Agency (EPA) is publishing Draft Guidance On Implementing The Water Quality-Based Provisions in the Combined Sewer Overflow (CSO) Control Policy. The guidance is designed to address questions raised since the publication of the CSO Control Policy in 1994 on integrating the long-term control plan (LTCP) development process with the water quality standards review. As outlined in the guidance, EPA will continue to implement the CSO Control Policy through its existing statutory and regulatory authorities. The guidance cannot impose legally binding requirements on EPA, States, Tribes, or the regulated community. It cannot substitute for Clean Water Act (CWA) requirements, EPA's regulations, or the obligations imposed by consent decrees or enforcement orders.

DATES: Public Comments: All public comments on the draft guidance must be received on or before March 5, 2001. All comments should be submitted in writing to the address listed below.

ADDRESSES: Comments should be addressed to Timothy Dwyer, U.S. Environmental Protection Agency, ICC Building (MC 4203M), 1200 Pennsylvania Avenue, NW., Washington, DC 20460. Commenters are also requested to submit an original and 3 copies of their written comments as well as an original and 3 copies of any attachments, enclosures, or other documents referenced in the comments.

EPA will also accept comments electronically. Comments should be addressed to the following e-mail address: dwyer.tim@epa.gov. Electronic comments must be submitted as an ASCII, WordPerfect 5.1/6.1/8 format file and avoid the use of special characters or any form of encryption.

Interested persons may obtain a copy of the guidance from the Office of Wastewater Management's website (http://www.epa.gov/owm/cso.htm) or by contacting the Office of Water Resources Center at 202-260-7786 (e-mail: center.water-resource@epa.gov); mailing address is: Office of Water Resources Center, U.S. Environmental Protection Agency, RC-4100, 1200 Pennsylvania Avenue, NW, Washington, DC 20460. Please request, “Draft Guidance on Implementing the Water Quality-Based Provisions in the Combined Sewer Overflow Control Policy” (EPA Number 833-D-00-002; December 2000).

FOR FURTHER INFORMATION CONTACT: Timothy Dwyer, Office of Wastewater Management, Water Permits Division, MC 4203M, 1200 Pennsylvania Avenue, NW, Washington, DC 20460, Telephone: 202-564-0717.

SUPPLEMENTARY INFORMATION: EPA issued the Combined Sewer Overflow (CSO) Control Policy in April 1994 (59 FR 18688). To date, EPA has released seven guidance documents and worked with stakeholders to foster implementation of the Policy. The CSO Control Policy calls for the development of a long-term control plan (LTCP), which includes measures that provide for compliance with the Clean Water Act including attainment of water quality standards. The CSO Control Policy provides that the LTCP should be coordinated with the review and revision, as appropriate, of water quality standards and implementation procedures on CSO-impacted receiving waters. This process is intended to ensure that the long-term controls will be sufficient to meet water quality standards (59 FR 18694).

As part of EPA's FY 1999 Appropriation, Congress directed EPA to develop guidance on the conduct of water quality standards and designated use reviews for CSO-receiving waters, and urged EPA to provide technical and financial assistance to States and EPA Regions to conduct these reviews. In response, EPA hosted three stakeholder listening sessions in the Spring of 1999 and an experts workshop on September 24, 1999. The purpose of these meetings was to obtain participants' views on the impediments to implementing the water quality-based provisions in the CSO Control Policy. The guidance addresses many of the stakeholders' concerns, and recommends actions that EPA, State and Interstate Water Pollution Control Directors, and CSO communities can take to address their concerns.

The objective of this guidance is to lay a strong foundation for integrating CSO long-term control planning with water quality standards reviews. Reaching early agreement among CSO communities, States, EPA, and the public on the data to be collected and the analyses to be conducted to support the long-term control plan development and water quality standards reviews can facilitate the review of water quality standards and the reconciliation of water quality standards with an affordable, well-designed and operated CSO control programs.

The guidance describes the process for integrating LTCP development and implementation with the water quality standards review. This process is the centerpiece of EPA's renewed commitment to assure that both communities with combined sewer systems and States participate in implementing the water quality-based provisions in the CSO Control Policy. The CSO Control Policy anticipates the “review and revision, as appropriate, of water quality standards and their implementation procedures when developing CSO control plans to reflect site-specific impacts of CSOs.” Integrating CSO long-term control planning with water quality standards reviews requires extensive coordination among CSO communities, States, EPA, and the public. Although this coordination is an intensive iterative process, it provides greater assurance that CSO communities will implement affordable CSO control programs that support the attainment of appropriate water quality standards.

Dated: December 20, 2000.
J. Charles Fox,
Assistant Administrator for Water.

[FR Doc. 01-113 Filed 1-2-01; 8:45 am]

BILLING CODE 6560-50-P